DEPARTMENT OF THE INTERIOR

Fish and Wildlife Service

[FWS-R1-ES-2012-N0002; FXES11130100000F5-123-FF01E00000]

Endangered and Threatened Wildlife and Plants; Recovery Permit Applications

AGENCY: Fish and Wildlife Service, Interior.

ACTION: Notice of availability; request for comments.

SUMMARY: We, the U.S. Fish and Wildlife Service, invite the public to comment on the following applications for recovery permits to conduct enhancement of survival activities with endangered species. The Endangered Species Act of 1973, as amended (Act), prohibits activities with endangered species unless a Federal permit allows such activity. The Act also requires that we invite public comment before issuing such permits.

DATES: To ensure consideration, please send your written comments by February 22, 2012.

ADDRESSES: Endangered Species Program Manager, Ecological Services, U.S. Fish and Wildlife Service, Pacific Regional Office, 911 NE 11th Avenue, Portland, OR 97232-4181. Please refer to the permit number for the application when submitting comments.

FOR FURTHER INFORMATION CONTACT: Grant Canterbury, Fish and Wildlife Biologist, at the above address or by telephone (503-231-2071) or fax (503-231-6243).

SUPPLEMENTARY INFORMATION:

Background

The Act (16 U.S.C. 1531 et seq.) prohibits activities with endangered and threatened species unless a Federal permit allows such activity. Along with our implementing regulations in the Code of Federal Regulations (CFR) at 50 CFR 17, the Act provides for permits, and requires that we invite public comment before issuing these permits.

A permit granted by us under section 10(a)(1)(A) of the Act authorizes the permittee to conduct activities with U.S. endangered or threatened species for scientific purposes, enhancement of propagation or survival, or interstate commerce. Our regulations implementing section 10(a)(1)(A) for these permits are found at 50 CFR 17.22 for endangered wildlife species, 50 CFR 17.32 for threatened wildlife species, 50 CFR 17.62 for endangered plant species, and 50 CFR 17.72 for threatened plant species.

Applications Available for Review and Comment

We invite local, State, and Federal agencies, and the public to comment on the following applications. Please refer to the appropriate permit number for the application when submitting comments.

Documents and other information submitted with these applications are available for review, subject to the requirements of the Privacy Act (5 U.S.C. 552a) and Freedom of Information Act (5 U.S.C. 552).

Permit Number: TE-61798A

Applicant: David Monnin, Terra Science, Inc., Portland, Oregon

The applicant requests a new permit to take (collect individuals and cysts) the vernal pool fairy shrimp (Branchinecta lynchi), and remove and reduce to possession (harvest seed) Lomatium cookii (Cook's lomatium) and Limnanthes floccosa ssp. grandiflora (large-flowered woolly meadowfoam) in conjunction with monitoring and population studies in Jackson County, Oregon, for the purpose of enhancing the species' survival.

Permit Number: TE-054395

Applicant: Bureau of Land Management, Medford, Oregon

The permittee requests an amendment to an existing permit to remove and reduce to possession (collect and cultivate plants, plant parts, and seed) Lomatium cookii (Cook's lomatium) in conjunction with recovery efforts in Jackson County, Oregon, for the purpose of enhancing the species' survival. The permit previously covered removal and reduction to possession of Fritillaria gentneri (Gentner's fritillary), for which a notice was published in the Federal Register on May 30, 2002 (67 FR 37855).

Permit Number: TE-61788A

Applicant: Kyle Van Houtan, National Marine Fisheries Service, Honolulu, Hawaii

The applicant requests a new permit to take (tag, tissue sample, collect biotelemetry data) the green sea turtle (Chelonia mydas) and hawksbill sea turtle (Eretmochelys imbricata) in conjunction with monitoring and population studies on Pacific islands nesting beaches (Midway Atoll, Johnston Atoll, Palmyra Atoll, Kingman Reef, Howland Island, Baker Island, Jarvis Island, Wake Island, American Samoa, Guam, Commonwealth of the Northern Mariana Islands, and Hawaii) for the purpose of enhancing the species' survival.

Permit Number: TE-63568A

Applicant: Jason Clinch, Terra Science, Inc., Portland, Oregon

The applicant requests a new permit to take (collect individuals and cysts) the vernal pool fairy shrimp (Branchinecta lynchi), and remove and reduce to possession (harvest seed) Lomatium cookii (Cook's lomatium) and Limnanthes floccosa ssp. grandiflora (large-flowered woolly meadowfoam) in conjunction with monitoring and population studies in Jackson County, Oregon, for the purpose of enhancing the species' survival.

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: January 13, 2012.
Richard R. Hannan,
Acting Regional Director, Pacific Region, U.S. Fish and Wildlife Service.

[FR Doc. 2012-1189 Filed 1-20-12; 8:45 am]

BILLING CODE 4310-55-P